DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on June 1, 2022, through June 30, 2022. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading “For Further Information Contact”), with a copy to HRSA addressed to Director, Division of Injury Compensation Programs, Health Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Carole Johnson,
Administrator.

List of Petitions Filed

1. Elizabeth Bacon, Baton Rouge, Louisiana, Court of Federal Claims No: 22-0599V

2. Darby Hoss, Portland, Oregon, Court of Federal Claims No: 22-0600V

3. Julia Kauterman, Berlin, New Jersey, Court of Federal Claims No: 22-0601V

4. Carinna Sharrak, Royal Oak, Michigan, Court of Federal Claims No: 22-0602V

5. Jill Diluigi, Roseville, Michigan, Court of Federal Claims No: 22-0604V

6. Courtney Byrnes, Reisterstown, Maryland, Court of Federal Claims No: 22-0606V

7. Sandra Gill Pace, Central, Louisiana, Court of Federal Claims No: 22-0607V

8. Christine Breen, New York, New York, Court of Federal Claims No: 22-0608V

9. Robin Morrison, Katy, Texas, Court of Federal Claims No: 22-0609V

10. Claudette Hulsey, Hartsville, South Carolina, Court of Federal Claims No: 22-0610V

11. Angela Stewart, Fayetteville, Georgia, Court of Federal Claims No: 22-0611V

12. Imani Corbett, Phoenix, Arizona, Court of Federal Claims No: 22-0612V

13. Linda Butler, Ambler, Pennsylvania, Court of Federal Claims No: 22-0613V

14. Jennifer Callaghan, Voorhees, New Jersey, Court of Federal Claims No: 22-0615V

15. Carmen Hill, East Jordan, Michigan, Court of Federal Claims No: 22-0616V

16. Sharin Elkholy on behalf of L. V., Houston, Texas, Court of Federal Claims No: 22-0618V

17. Kimberly Crysler-Ehlen, Chaska, Minnesota, Court of Federal Claims No: 22-0621V

18. Sharice Brown, Washington, District of Columbia, Court of Federal Claims No: 22-0622V

19. Bala Muccala, Chandler, Arizona, Court of Federal Claims No: 22-0624V

20. Giselle Lewis, Syracuse, New York, Court of Federal Claims No: 22-0628V

21. Brian Thomas, Yokosuka, Japan, Court of Federal Claims No: 22-0631V

22. Jacquese F. Harrell, Boscobel, Wisconsin, Court of Federal Claims No: 22-0635V

23. Terri Jones-White, Auburn Hills, Michigan, Court of Federal Claims No: 22-0637V

24. Earlean Lewis, Macon, Georgia, Court of Federal Claims No: 22-0638V

25. Dana Kendrick on behalf of C. E. K., Spring, Texas, Court of Federal Claims No: 22-0639V

26. Mosel Pearlman-Ramirez, San Rafael, California, Court of Federal Claims No: 22-0640V

27. Richard Rondinaro, Staten Island, New York, Court of Federal Claims No: 22-0643V

28. Michele Holland, Acton, Massachusetts, Court of Federal Claims No: 22-0645V

29. Michael Smith, Matthews, North Carolina, Court of Federal Claims No: 22-0646V

30. Laura Wallace, Bloomington, Minnesota, Court of Federal Claims No: 22-0649V

31. Leah Hutson, Miami, Oklahoma, Court of Federal Claims No: 22-0651V

32. Frances McGovern, Rochester, Minnesota, Court of Federal Claims No: 22-0652V

33. Razia Khan, Astoria, New York, Court of Federal Claims No: 22-0653V

34. Rica Hoskins, Woodbridge, Virginia, Court of Federal Claims No: 22-0654V

35. Veronica Demoss, South Bend, Indiana, Court of Federal Claims No: 22-0655V

36. Joseph Ditro, Huntingtin Valley, Pennsylvania, Court of Federal Claims No: 22-0656V

37. Emmanuel Ayala, East Brunswick, New Jersey, Court of Federal Claims No: 22-0658V

38. Lori Multz, Camarillo, California, Court of Federal Claims No: 22-0660V

39. Joseph Murphy, Bernalillo, New Mexico, Court of Federal Claims No: 22-0661V

40. Richard Newell, Presidio, Texas, Court of Federal Claims No: 22-0662V

41. Rene Newman, Vienna, Virginia, Court of Federal Claims No: 22-0663V

42. Charlotte O'Brien, Babbitt, Minnesota, Court of Federal Claims No: 22-0664V

43. Susan Odell, Alexandria, Minnesota, Court of Federal Claims No: 22-0665V

44. Virginia Perez, Indianapolis, Indiana, Court of Federal Claims No: 22-0666V

45. Ronald Poulin, Buckfield, Maine, Court of Federal Claims No: 22-0667V

46. Jesus Rodriguez, Fort Worth, Texas, Court of Federal Claims No: 22-0668V

47. Connie Rosenkranz, Richland Center, Wisconsin, Court of Federal Claims No: 22-0669V

48. Emma Runyon, Varney, West Virginia, Court of Federal Claims No: 22-0670V

49. Maryam Ahmadi, Newbury Park, California, Court of Federal Claims No: 22-0671V

50. Conceta Murphy, Venice, Florida, Court of Federal Claims No: 22-0672V

51. Jeffrey Bohlmann, Watertown, South Dakota, Court of Federal Claims No: 22-0674V

52. Shannon Robbins, Temple, Texas, Court of Federal Claims No: 22-0675V

53. Gerret Swearingen, Ossian, Indiana, Court of Federal Claims No: 22-0677V

54. Andrew Schaefer, Springfield, Missouri, Court of Federal Claims No: 22-0678V

55. LeeAnn Phillips-McAraw on behalf of K.M., Phoenix, Arizona, Court of Federal Claims No: 22-0679V

56. Jacqueline Schweichler, Edinboro, Pennsylvania, Court of Federal Claims No: 22-0681V

57. Patrick Simmons, Inver Grove Heights, Minnesota, Court of Federal Claims No: 22-0682V

58. Dustin Stamey, Inver Grove Heights, Minnesota, Court of Federal Claims No: 22-0683V

59. Richard Steck, Pittsburgh, Pennsylvania, Court of Federal Claims No: 22-0684V

60. Kimba Stojak, Lindenhurst, Illinois, Court of Federal Claims No: 22-0685V

61. Linda Tan, New York, New York, Court of Federal Claims No: 22-0686V

62. Aaron Thomas, San Diego, California, Court of Federal Claims No: 22-0687V

63. Susan White, West Islip, New York, Court of Federal Claims No: 22-0688V

64. Laura Wunsch, Trempealeau, Wisconsin, Court of Federal Claims No: 22-0689V

65. Nadia Israel, Aurora, Colorado, Court of Federal Claims No: 22-0690V

66. Monica Portee, Columbia, South Carolina, Court of Federal Claims No: 22-0691V

67. Glenna McIntyre, Monroe, Louisiana, Court of Federal Claims No: 22-0692V

68. Dennis Crout, Arlington, Texas, Court of Federal Claims No: 22-0694V

69. Connie Watson, Washington, District of Columbia, Court of Federal Claims No: 22-0695V

70. Jonathan Law, Hampstead, North Carolina, Court of Federal Claims No: 22-0696V

71. Eunice Buffkin, Loris, South Carolina, Court of Federal Claims No: 22-0697V

72. Betty Conn, Cincinnati, Ohio, Court of Federal Claims No: 22-0699V

73. Danielle Polzin, North Mankato, Minnesota, Court of Federal Claims No: 22-0700V

74. Kristina Lemon, Denver, Colorado, Court of Federal Claims No: 22-0701V

75. Michelle Gushue, Hampden, Maine, Court of Federal Claims No: 22-0702V

76. Randi Bovard, Carmichael, California, Court of Federal Claims No: 22-0703V

77. Thomas Meurer, Conway, Arkansas, Court of Federal Claims No: 22-0704V

78. Mark Smith, Jersey City, New Jersey, Court of Federal Claims No: 22-0705V

79. David Meade, Toledo, Ohio, Court of Federal Claims No: 22-0706V

80. Joyce Hammond, Wellesley, Massachusetts, Court of Federal Claims No: 22-0708V

81. Maiah Faapouli, Phoenix, Arizona, Court of Federal Claims No: 22-0709V

82. Julia Foran, Phoenix, Arizona, Court of Federal Claims No: 22-0710V

83. Van Blue, Jr. on behalf of S. B., Lancaster, Pennsylvania, Court of Federal Claims No: 22-0711V

84. Sarah Hamm, Chicago, Illinois, Court of Federal Claims No: 22-0714V

85. Shavannah Ervin, Milwaukee, Wisconsin, Court of Federal Claims No: 22-0716V

86. Denyce Iverson, Cheyenne, Wyoming, Court of Federal Claims No: 22-0718V

87. Jose Fernandez, Greenbrook, New Jersey, Court of Federal Claims No: 22-0719V

88. Selma Taylor, Richmond, Virginia, Court of Federal Claims No: 22-0722V

89. Phyllis Olszewski, Taylor, Michigan, Court of Federal Claims No: 22-0723V

90. Eileen Barton, Washington, District of Columbia, Court of Federal Claims No: 22-0724V

91. John Kiser, Mt. Pleasant, Pennsylvania, Court of Federal Claims No: 22-0726V

92. Michael Henry on behalf of C. H., Phoenix, Arizona, Court of Federal Claims No: 22-0727V

93. Jeffrey Scott Curry, Germantown, Tennessee, Court of Federal Claims No: 22-0729V

94. Christopher Chandler, Savannah, Georgia, Court of Federal Claims No: 22-0730V

[FR Doc. 2022-16613 Filed 8-2-22; 8:45 am]

BILLING CODE 4165-15-P